DEPARTMENT OF DEFENSE

GENERAL SERVICES ADMINISTRATION

NATIONAL AERONAUTICS AND SPACE ADMINISTRATION

48 CFR Parts 2 and 4

[FAC 2005-77; FAR Case 2012-023; Correction; Docket 2012-0023, Sequence 1]

RIN 9000-AM60

Federal Acquisition Regulation; Uniform Procurement Identification; Correction

AGENCY: Department of Defense (DoD), General Services Administration (GSA), and National Aeronautics and Space Administration (NASA).

ACTION: Final rule; Correction.

SUMMARY: DoD, GSA, and NASA are issuing a correction to FAR Case 2012-023; Uniform Procurement Identification (Item III), which was published in the Federal Register at 79 FR 61739, October 14, 2014.

DATES: Effective: November 13, 2014.

FOR FURTHER INFORMATION CONTACT: Mr. Edward Loeb, Procurement Analyst, at 202-501-0650, for clarification of content. For information pertaining to status or publication schedules, contact the Regulatory Secretariat at 202-501-4755. Please cite FAC 2005-77; FAR Case 2012-023; Correction.

SUPPLEMENTARY INFORMATION:

Correction

In rule FR Doc. 2014-24240 published in the Federal Register at 79 FR 61739, October 14, 2014, make the following correction:

On page 61741, in the first column, second line, correct “4.601” to read “4.1601”.

Authority: 40 U.S.C. 121(c); 10 U.S.C. chapter 137; and 51 U.S.C. 20113.

Dated: October 21, 2014.
William Clark,
Acting Director, Office of Government-wide Acquisition Policy, Office of Acquisition Policy, Office of Government-wide Policy.

[FR Doc. 2014-25416 Filed 10-23-14; 8:45 am]

BILLING CODE 6820-EP-P